DEPARTMENT OF THE TREASURY

Internal Revenue Service

Open Meeting of the Taxpayer Advocacy Panel Small Business/Self Employed Issue Committee

AGENCY: Internal Revenue Service (IRS), Treasury.

ACTION: Notice of meeting.

SUMMARY: An open meeting of the Taxpayer Advocacy Panel Small Business/Self Employed Issue Committee will be conducted. The Taxpayer Advocacy Panel is soliciting public comments, ideas and suggestions on improving customer service at the Internal Revenue Service.

DATES: The meeting will be held Monday, June 28, 2010 and Tuesday, June 29, 2010.

FOR FURTHER INFORMATION CONTACT: Janice Spinks at 1-888-912-1227 or 206-220-6098.

SUPPLEMENTARY INFORMATION: Notice is hereby given pursuant to section 10(a)(2) of the Federal Advisory Committee Act, 5 U.S.C. App. (1988) that an open meeting of the Taxpayer Advocacy Panel Small Business/Self Employed Issue Committee will be held Monday, June 28, 2010 from 8 a.m. to 5 p.m. and Tuesday, June 29, 2010 from 8 a.m. to 5 p.m. Central Time in Dallas, TX. The public is invited to make oral comments or submit written statements for consideration. Notification of intent to participate must be made with Janice Spinks. For more information, please contact Ms. Spinks at 1-888-912-1227 or 206-220-6098 or write TAP Office, 915 2nd Avenue, MS W-406, Seattle, WA 98174, or contact us at the Web site: http://www.improveirs.org.

The agenda will include various IRS issues.

Dated: May 3, 2010.
Shawn F. Collins,
Director, Taxpayer Advocacy Panel.

[FR Doc. 2010-10732 Filed 5-6-10; 8:45 am]

BILLING CODE 4830-01-P